ENVIRONMENTAL PROTECTION AGENCY

40 CFR Part 268

Land Disposal Restrictions

CFR Correction

In Title 40 of the Code of Federal Regulations, Parts 266 to 299, revised as of July 1, 2002, § 268.44 is corrected in the table by adding footnote 8 to read as follows:

§ 268.44 Variance from a treatment standard.

Table-Wastes Excluded From the Treatment Standards Under § 268.40

* * * * *⁸

⁸Dupont Environmental Treatment-Chambers Works must dispose of this waste in their on-site Subtitle C hazardous waste landfill.

[FR Doc. 03-55501 Filed 1-28-03; 8:45 am]

BILLING CODE 1505-01-D